COUNCIL ON ENVIRONMENTAL QUALITY

Draft Guidance, “Federal Greenhouse Gas Accounting and Reporting”

AGENCY: Council on Environmental Quality.

ACTION: Notice: Extension of comment period.

SUMMARY: This notice extends the comment period on draft guidance published in the Federal Register on July 16, 2010. The original date that the comment period would end was August 16, 2010. That date will now be extended until September 1, 2010

On October 5, 2009, President Obama signed Executive Order (E.O.) 13514—Federal Leadership in Environmental, Energy, and Economic Performance (74 FR 52117) in order to establish an integrated strategy toward sustainability in the Federal Government and to make reduction of greenhouse gas (GHG) emissions a priority for Federal agencies. Among other provisions, E.O. 13514 requires agencies to measure, report, and reduce their GHG emissions.

Section 9(a) of E.O. 13514 directed the Department of Energy's (DOE's) Federal Energy Management Program (FEMP), in coordination with the Environmental Protection Agency (EPA), Department of Defense (DoD), General Services Administration (GSA), Department of the Interior (DOI), Department of Commerce (DOC), and other agencies as appropriate, to develop recommended Federal GHG reporting and accounting procedures. On April 5, 2010, DOE-FEMP submitted the final recommendations on Federal GHG reporting and accounting procedures to the Chair, Council on Environmental Quality (CEQ).

Section 5(a) of E.O. 13514 directed that the Chair of CEQ issue guidance for Federal GHG accounting and reporting. Based on the final recommendations, CEQ has prepared a draft guidance document. CEQ is committed to open government principles and leading by example to ensure that the Federal Government is transparent in its processes for accounting and reporting of Federal GHG emissions.

The Federal Government seeks to continually improve both the quality of data and methods necessary for calculating GHG emissions. Over time, additional requirements, methodologies and procedures will be included in revisions to this document and supporting documents to improve the Federal Government's overall ability to accurately account for and report GHG emissions. In particular, while a detailed approach to accepted and peer-reviewed life cycle methodologies is beyond the scope of the current version of this guidance document, the Federal Government is interested in including such approaches in future versions, and may request comment on inclusion of life cycle methodologies in future versions of this Guidance document.

CEQ provides this draft guidance for public review and comment to ensure accessibility of Federal accounting and reporting requirements and to enhance the quality of public involvement in governmental decisions relating to the environment.

DATES: CEQ is extending the written comments period. Comments will be accepted through September 1, 2010.

ADDRESSES: The Draft Guidance, “Federal Greenhouse Gas Accounting and Reporting” documents are available at: http://www.whitehouse.gov/ceq/sustainability. Comments on the Draft Guidance, “Federal Greenhouse Gas Accounting and Reporting,” should be submitted electronically to GHG.guidance@ceq.eop.gov, or in writing to The Council on Environmental Quality, Attn: Leslie Gillespie-Marthaler, 722 Jackson Place, NW., Washington, DC 20503.

FOR FURTHER INFORMATION CONTACT: Leslie Gillespie-Marthaler, Senior Program Manager, Office of the Federal Environmental Executive (OFEE) at (202) 456-5117.

SUPPLEMENTARY INFORMATION: The Chair, Council on Environmental Quality is required, under Section 5(a) of E.O. 13514, to issue guidance for Federal agency greenhouse gas accounting and reporting. Federal agencies are required, under Section 2(c) of E.O. 13514, to establish and report to the CEQ Chair and OMB Director a comprehensive inventory of absolute GHG emissions, including scope 1, scope 2, and specified scope 3 emissions for fiscal year 2010, and thereafter, annually.

The Draft Guidance, “Federal Greenhouse Gas Accounting and Reporting” establishes government-wide requirements for Federal agencies in calculating and reporting GHG emissions associated with agency operations. The Draft Guidance is accompanied by a separate Draft Technical Support Document for Federal GHG Accounting and Reporting (TSD), which provides detailed information on Federal inventory reporting requirements and calculation methodologies. Specifically, CEQ is interested in comments on section/chapter 4 regarding renewable energy.

Public comments are requested on or before September 1, 2010.

Dated: August 6, 2010.
Nancy H. Sutley,
Chair, Council on Environmental Quality.

[FR Doc. 2010-20112 Filed 8-13-10; 8:45 am]

BILLING CODE 3125-W0-P